DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Charles N. Rudick, Northwestern University: Based on the report of an investigation conducted by Northwestern University (NU Report) and additional analysis conducted by ORI in its oversight review, PHS found that Charles N. Rudick, Graduate Student, Department of Neurobiology and Physiology at NU (Respondent), engaged in scientific misconduct in research supported by National Institute of Neurological Disorders and Stroke (NINDS), National Institutes of Health (NIH), grant R29 NS37324, “Estrogen-induced hippocampal seizure susceptibility,” and National Institute of General Medical Sciences (NIGMS), NIH, grant T32 GM08061, “Cellular and Molecular Basis of Disease Training Program.”

Specifically, PHS found that Mr. Rudick falsified illustrations in Photoshop pertaining to unpublished traces of electrophysiological recordings of inhibitory postsynaptic currents.

Mr. Rudick has entered into a Voluntary Exclusion Agreement (Agreement ) in which he has voluntarily agreed for a period of three (3) years, beginning on September 14, 2004:

(1) To exclude himself from serving in any advisory capacity to PHS including but not limited to service on any PHS advisory committee, board, and/or peer review committee, or as a consultant; and

(2) That any institution which submits an application for PHS support for a research project on which the Respondent's participation is proposed or which uses the Respondent in any capacity on PHS supported research, or that submits a report of PHS-funded research in which the Respondent is involved, must concurrently submit a plan for supervision of the Respondent's duties to the funding agency for approval. The supervisory plan must be designed to ensure the scientific integrity of the Respondent's research contribution. Respondent agrees to ensure that a copy of the supervisory plan is also submitted to ORI by the institution. Respondent agrees that he will not participate in any PHS-supported research until such a supervision plan is submitted to and accepted by ORI.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 04-21920 Filed 9-29-04; 8:45 am]

BILLING CODE 4150-31-P